DEPARTMENT OF AGRICULTURE

Submission for OMB Review; Comment Request

May 25, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Urgent Removal of Timber.

OMB Control Number: 0596-0167.

Summary of Collection: Periodically, catastrophic events such as severe drought conditions, insect and disease outbreaks, wildfires, floods, and windthrow occur on forested lands within, or near, National Forest System (NFS) lands. As a result of such catastrophic event, substantial amounts of private and other public timber may be severely damaged. The damaged timber must be harvested within a relatively short time period to avoid substantial losses in both the quantity and quality of the timber due to deterioration. The critical time period available for harvesting this damaged timber and avoiding substantial deterioration varies with the season of the year, the species of timber, the damaging agent, and the location of the damaged timber. The following statute is applicable to extension of National Forest System timber sales: The National Forest Management Act of 1976 (16 U.S.C. 472a), and 36 CFR part 223.115 and 36 CFR part 223.53.

Need and Use of the Information: The Forest Service (FS) will collect the following information: (1) Name of the timber sale purchaser; (2) Identity of catastrophic event creating the need for urgent removal of timber; (3) Name of the NFS sale contract(s) for which an urgent removal extension is requested; (4) Quantity of urgent removal from qualifying catastrophic event purchaser has under contract and/or plans to harvest subject to approval by FS of urgent removal extension of sale(s) identified in purchaser's request; and (5) General information showing the manufacturing and/or logging equipment capacity available to purchaser.

Description of Respondents: Business or other for-profit; Individuals or households; Federal Government; State, Local or Tribal Government.

Number of Respondents: 25.

Frequency of Responses: Reporting: On occasion.

Total Burden Hours: 100.

Ruth Brown,
Departmental Information Collection Clearance Officer.

[FR Doc. E6-8373 Filed 5-30-06; 8:45 am]

BILLING CODE 3410-11-P